DEPARTMENT OF TRANSPORTATION

Federal Aviation Administration

14 CFR Part 39

[Docket No. FAA-2012-0810; Directorate Identifier 2011-NM-195-AD; Amendment 39-17420; AD 2013-08-03]

RIN 2120-AA64

Airworthiness Directives; Airbus Airplanes

AGENCY: Federal Aviation Administration (FAA), Department of Transportation (DOT).

ACTION: Final rule.

SUMMARY: We are adopting a new airworthiness directive (AD) for certain Airbus Model A330-200, A330-300, A340-200 and A340-300 series airplanes. This AD was prompted by a report that revealed the wheel axles of the main landing gear (MLG) were machined with a radius as small as 0.4 millimeters. This AD requires replacing the wheel axle of the MLG with a serviceable part. We are issuing this AD to prevent fatigue of the wheel axle of the MLG, which could adversely affect the structural integrity of the airplane.

DATES: This AD becomes effective May 23, 2013.

The Director of the Federal Register approved the incorporation by reference of certain publications listed in this AD as of May 23, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a Notice of Proposed Rulemaking (NPRM) to amend 14 CFR part 39 to include an AD that would apply to the specified products. That NPRM was published in the Federal Register on August 27, 2012 (77 FR 51729). That NPRM proposed to correct an unsafe condition for the specified products. The Mandatory Continuing Airworthiness Information (MCAI) states:

EASA [European Aviation Safety Agency] has received a report via Airbus and Messier-Bugatti-Dowty Ltd, from a Maintenance repair organisation, concerning a specific repair, accomplished on certain MLG wheel axles. Investigations revealed that the axles have been machined with a radius as small as 0.4 mm.

This condition, if not corrected, has a detrimental effect on the fatigue lives of these parts, possibly affecting the structural integrity of the aeroplane. Fatigue analyses were performed, the results of which indicated that the life limit of the affected MLG wheel axles must be reduced to below the one stated in the A330 and A340 Airbus Airworthiness Limitation Section (ALS) Part 1.

For the reasons described above, this [EASA) AD [2011-0170, dated September 7, 2011] requires the replacement of the MLG wheel axles before reaching the new reduced demonstrated life limit.

You may obtain further information by examining the MCAI in the AD docket.

Comments

We gave the public the opportunity to participate in developing this AD. We received no comments on the NPRM (77 FR 51729, August 27, 2012), or on the determination of the cost to the public.

Explanation of Changes Made Since NPRM (77 FR 51729, August 27, 2012) Was Issued

Since the NPRM (77 FR 51729, August 27, 2012) was issued, we have reviewed Airbus Alert Operators Transmission (AOT) A330-32A-3256, Revision 01, including Appendix 1, dated October 18, 2012 (for Model A330-200 and -300 series airplanes); and Airbus AOT A340-32A-4292, Revision 01, including Appendix 1, dated October 18, 2012 (for Model A340-200 and -300 series airplanes). This service information includes additional wheel axle serial numbers and corrects an incorrectly listed serial number. We have revised paragraphs (g), (h), and (k) (paragraph (j) of the NPRM) of this AD to refer to the new service information. We have coordinated this change with EASA.

We have also added new paragraph (j), “Credit for Previous Actions,” to this AD to provide credit for actions performed before the effective date of this AD using Airbus All Operator Telex A330-32A3256, including Appendix 1, dated August 24, 2011; and Airbus All Operator Telex A340-32A4292, including Appendix 1, dated August 24, 2011.

Conclusion

We reviewed the available data, and determined that air safety and the public interest require adopting the AD with the changes described previously—and minor editorial changes. We have determined that these changes:

• Are consistent with the intent that was proposed in the NPRM (77 FR 51729, August 27, 2012) for correcting the unsafe condition; and

• Do not add any additional burden upon the public than was already proposed in the NPRM (77 FR 51729, August 27, 2012).

Costs of Compliance

We estimate that this AD will affect 59 products of U.S. registry. We also estimate that it will take about 48 work-hours per product to comply with the basic requirements of this AD. The average labor rate is $85 per work-hour. Required parts will cost about $153,443 per product. Where the service information lists required parts costs that are covered under warranty, we have assumed that there will be no charge for these parts. As we do not control warranty coverage for affected parties, some parties may incur costs higher than estimated here. Based on these figures, we estimate the cost of this AD to the U.S. operators to be $9,293,857, or $157,523 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 51729, August 27, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-08-03 Airbus: Amendment 39-17420. Docket No. FAA-2012-0810; Directorate Identifier 2011-NM-195-AD.

(a) Effective Date

This airworthiness directive (AD) becomes effective May 23, 2013.

(b) Affected ADs

None.

(c) Applicability

This AD applies to Airbus Model A330-201, -202, -203, -223, -243, -301, -302, -303, -321, -322, -323, -341, -342, and -343 airplanes; and Model A340-211, -212, -213, -311, -312, and -313 airplanes; certificated in any category; all manufacturer serial numbers, except those on which Airbus modification 54500 has been embodied in production.

(d) Subject

Air Transport Association (ATA) of America Code 32: Landing Gear.

(e) Reason

This AD was prompted by a report that revealed the wheel axles were machined with a radius as small as 0.4 millimeters. We are issuing this AD to prevent fatigue of the wheel axle of the main landing gear (MLG), which could adversely affect the structural integrity of the airplane.

(f) Compliance

You are responsible for having the actions required by this AD performed within the compliance times specified, unless the actions have already been done.

(g) Definitions

(1) For the purpose of this AD, an affected MLG wheel axle is defined as a MLG axle having a part number and serial number specified in Part 1 of Appendix 1 of Airbus Alert Operators Transmission (AOT) A330-32A-3256, Revision 01, dated October 18, 2012 (for Model A330-200 and -300 series airplanes); or Airbus AOT A340-32A-4292, Revision 01, dated October 18, 2012 (for Model A340-200 and -300 series airplanes).

(2) After removal from an airplane, an affected MLG wheel axle that has reached its life limit is considered an unserviceable part.

(3) The term “life limit” used in this AD means a post-repair life limit.

(h) Replacement

At the later of the times specified in paragraph (h)(1) or (h)(2) of this AD: Replace all affected MLG wheel axles with serviceable parts, in accordance with the instructions of Airbus AOT A330-32A-3256, Revision 01, including Appendix 1, dated October 18, 2012 (for Model A330-200 and -300 series airplanes); or Airbus AOT A340-32A-4292, Revision 01, including Appendix 1, dated October 18, 2012 (for Model A340-200 and -300 series airplanes).

(1) Before the accumulation of the applicable landings or flight hours specified in table 1 to paragraph (h)(1) of this AD. The “Post-repair MLG Wheel Axle Life Limit” must be counted from the date of installation of the MLG wheel axle on an airplane which occurs after the date of repair specified in Part 1 of Appendix 1 of Airbus AOT A330-32A-3256, Revision 01, dated October 18, 2012 (for Model A330-200 and -300 series airplanes); or Airbus AOT A340-32A-4292, Revision 01, dated October 18, 2012 (for Model A340-200 and -300 series airplanes).

Table 1 to Paragraph (h)(1) of This AD—Post-Repair MLG Wheel Axle Life Limit
Affected airplanes | Post-repair MLG wheel axle life limit, whichever occurs first (see paragraph (h)(1) of this AD)
Model A340-311, -312, and -313 airplanes, weight variant (WV) 00 | 4,700 landings or 22,250 flight hours.
Model A340-211, -212, and -213 airplanes, WV00 | 4,600 landings or 29,000 flight hours.
Model A340-313 airplanes, WV02 and WV05 | 3,950 landings or 16,900 flight hours.
Model A330-301, -321, -322, -341, and -342 airplanes, WV00 and WV01 | 5,050 landings or 15,200 flight hours.
Model A330-201, -202, -203, -223, and -243, WV02, WV05, and WV06 | 4,450 landings or 17,900 flight hours.
Model A330-301, -302, -303, -323, -342, and -343 airplanes, WV02 and WV05 | 5,150 landings or 13,450 flight hours.

(2) Within 24 months after the effective date of this AD without exceeding the applicable landings or flight hours specified in table 2 to paragraph (h)(2) of this AD. The “Post-repair MLG Wheel Axle Flight Hours or Landings, . . . not to be Exceeded” must be counted from the date of installation of the MLG wheel axle on an airplane, which occurs after the date of repair specified in the Part 1 of Appendix 1 of Airbus AOT A330-32A-3256, Revision 01, dated October 18, 2012 (for Model A330-200 and -300 series airplanes); or Airbus AOT A340-32A-4292, Revision 01, dated October 18, 2012 (for Model A340-200 and -300 series airplanes).

Table 2 to Paragraph (h)(2) of This AD— Post-Repair MLG Wheel Axle Flight Hours or Landings
Affected airplanes | Post-repair MLG wheel axle flight hours or landings, whichever occurs first, not to be exceeded (see paragraph (h)(2) of this AD)
Model A340-311, -312, and -313 airplanes, WV00 | 7,830 landings or 37,080 flight hours.
Model A340-211, -212, and -213 airplanes, WV00 | 7,660 landings or 48,330 flight hours.
Model A340-313 airplanes, WV02 and WV05 | 6,580 landings or 28,160 flight hours.
Model A330-301, -321, -322, -341, and -342 airplanes, WV00 and WV01 | 8,410 landings or 25,330 flight hours.
Model A330-201, -202, -203, -223, and -243 airplanes, WV02, WV05, and WV06 | 7,410 landings or 29,830 flight hours.
Model A330-301, -302, -303, -323, -342, and -343 airplanes, WV02 and WV05 | 8,580 landings or 22,580 flight hours.

(i) Parts Installation Limitation

As of the effective date of this AD: An affected MLG wheel axle may be installed on an airplane, provided the MLG wheel axle has not exceeded the limits specified in table 1 to paragraph (h)(1) of this AD and it is replaced with a serviceable part before reaching the life limit defined in table 1 to paragraph (h)(1) of this AD.

(j) Credit for Previous Actions

This paragraph provides credit for the actions required by paragraph (h) of this AD with respect to the affected MLG wheel axle defined in paragraph (g)(1) of this AD, if those actions were performed before the effective date of this AD using the applicable service information specified in paragraph (j)(1) or (j)(2) of this AD, which is not incorporated by reference in this AD.

(1) Airbus All Operator Telex A330-32A3256, including Appendix 1, dated August 24, 2011 (for Model A330-200 and -300 series airplanes).

(2) Airbus All Operator Telex A340-32A4292, including Appendix 1, dated August 24, 2011 (for Model A340-200 and -300 series airplanes).

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to MCAI European Aviation Safety Agency Airworthiness Directive 2011-0170, dated September 7, 2011, and the service information specified in paragraphs (l)(1)(i) and (l)(1)(ii) of this AD, for related information.

(i) Airbus AOT A330-32A-3256, Revision 01, including Appendix 1, dated October 18, 2012.

(ii) Airbus AOT A340-32A-4292, Revision 01, including Appendix 1, dated October 18, 2012.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operators Transmission (AOT) A330-32A-3256, Revision 01, including Appendix 1, dated October 18, 2012. The Document number and revision level are not identified on pages 2-5 of this AOT; the revision date is identified on only page 1 of this AOT and the first page of Appendix 1 of this AOT.

(ii) AOT A340-32A-4292, Revision 01, including Appendix 1, dated October 18, 2012. The Document number and revision level are not identified on pages 2-5 of this AOT; the revision date is identified on only page 1 of this AOT and the first page of Appendix 1 of this AOT.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 5, 2013.
Ali Bahrami,
Manager, Transport Airplane Directorate, Aircraft Certification Service.

[FR Doc. 2013-08741 Filed 4-17-13; 8:45 am]

BILLING CODE 4910-13-P